DEPARTMENT OF DEFENSE

48 CFR Part 225

[DFARS Case 2004-D002]

Defense Federal Acquisition Regulation Supplement; Polyacrylonitrile Carbon Fiber—Restriction to Domestic Sources; Correction

AGENCY: Department of Defense (DoD).

ACTION: Correction to final rule.

SUMMARY: DoD is issuing a correction to the final rule published at 70 FR 6374-6375 on February 7, 2005, that extended the ending date for phasing out domestic source restrictions on the acquisition of polyacrylonitrile (PAN) carbon fiber. The correction revises the terminology used to describe milestone B in the development of a major system, for consistency with the terminology used in DoD Instruction 5000.2, Operation of the Defense Acquisition System.

EFFECTIVE DATE: February 7, 2005.

FOR FURTHER INFORMATION CONTACT: Ms. Michele Peterson, Defense Acquisition Regulations System, OUSD(AT&L)DPAP(DAR), IMD 3C132, 3062 Defense Pentagon, Washington, DC 20301-3062. Telephone (703) 602-0311; facsimile (703) 602-0350.

List of Subjects in 48 CFR Part 225

Government procurement.

Therefore, 48 CFR part 225 is amended as follows:

PART 225—FOREIGN ACQUISITION

1. The authority citation for 48 CFR part 225 continues to read as follows:

Authority: 41 U.S.C. 421 and 48 CFR Chapter 1.

2. Section 225.7103-3 is corrected to read as follows:

225.7103-3 Contract clause.

Use the clause at 252.225-7022, Restriction on Acquisition of Polyacrylonitrile (PAN) Carbon Fiber, in solicitations and contracts for major systems issued on or before May 31, 2006, if the system is not yet in development and demonstration (milestone B as defined in DoDI 5000.2).

Michele P. Peterson,
Editor, Defense Acquisition Regulations System.

[FR Doc. 05-3204 Filed 2-18-05; 8:45 am]

BILLING CODE 5001-08-P